DEPARTMENT OF AGRICULTURE

Office of the Secretary

7 CFR Part 1

[Docket No. 05-057-1]

Rules of Practice for Certain Adjudicatory Proceedings; Commercial Transportation of Equines for Slaughter

AGENCY: Office of the Secretary, USDA.

ACTION: Final rule.

SUMMARY: We are amending the administrative regulations of the Office of the Secretary of Agriculture to provide that the rules of practice contained in those administrative regulations shall be applicable to adjudicatory proceedings under the Animal and Plant Health Inspection Service's regulations pertaining to the commercial transportation of equines to slaughtering facilities. This final rule is necessary to clarify the rules of practice that will apply to the adjudication of a violation of regulations pertaining to the commercial transportation of equines to slaughtering facilities.

DATES: Effective August 12, 2005.

FOR FURTHER INFORMATION CONTACT: Mr. Steve O'Neill, Assistant Chief, Regulatory Analysis and Development, PPH, APHIS, 4700 River Road Unit 118, Riverdale, MD 20737-1238; (301) 734-8682.

SUPPLEMENTARY INFORMATION:

Background

Sections 901-905 of the Federal Agriculture Improvement and Reform Act of 1996 (7 U.S.C. 1901 note) authorize the Secretary of Agriculture to issue guidelines for the regulation of commercial transportation of equines for slaughter by persons regularly engaged in that activity within the United States. To fulfill this responsibility, the Animal and Plant Health Inspection Service (APHIS) of the U.S. Department of Agriculture established regulations in title 9, part 88, of the Code of Federal Regulations.

The purpose of the regulations in 9 CFR part 88, “Commercial Transportation of Equines for Slaughter,” is to establish minimum standards to ensure the humane movement of equines to slaughtering facilities via commercial transportation. As directed by Congress, the regulations cover, among other things, the food, water, and rest provided to such equines prior to their being loaded for transportation, the condition of the conveyance in which they are transported, and the responsibilities of the owner/shipper of the equines upon arrival at the slaughtering plant. The regulations also require the owner/shipper of the equines to take certain actions in loading and transporting the equines to ensure that the equines are transported safely and humanely and require that the owner/shipper of the equines prepare and maintain paperwork certifying that the commercial transportation meets certain requirements. In addition, the regulations prohibit the use of electric prods on equines in commercial transportation to slaughter, and, after December 7, 2006, the use of double-deck trailers for commercial transportation of equines to slaughtering facilities.

In its final rule establishing the regulations in 9 CFR part 88 (see 66 FR 63588-63617), APHIS also amended its regulations in 9 CFR part 70, “Rules of Practice Governing Proceedings under Certain Acts,” to indicate that the uniform rules of practice for the Department of Agriculture promulgated in 7 CFR part 1, subpart II, would be applicable to adjudicatory, administrative proceedings under the equines for slaughter regulations.

Although the APHIS regulations were amended to indicate the applicability of those rules of practice, a corresponding amendment was not made in the administrative regulations of the Office of the Secretary in 7 CFR part 1, subpart II, “Rules of Practice Governing Formal Adjudicatory Proceedings Instituted by the Secretary Under Various Statutes” (7 CFR 1.130 through 1.151). Therefore, in this final rule we are attending § 1.131, “Scope and applicability of this subpart,” to provide that the rules of practice contained in subpart II shall be applicable to adjudicatory proceedings under the regulations in 9 CFR part 88 pertaining to the commercial transportation of equines to slaughtering facilities.

This rule relates to internal agency management. Therefore, this rule is exempt from the provisions of Executive Orders 12866 and 12988. Moreover, pursuant to 5 U.S.C. 553, notice of proposed rulemaking and opportunity for comment are not required for this rule, and it may be made effective less than 30 days after publication in the Federal Register. In addition, under 5 U.S.C. 804, this rule is not subject to congressional review under the Small Business Regulatory Enforcement Fairness Act of 1996, Public Law 104-121. Finally, this action is not a rule as defined by 5 U.S.C. 601 et seq., the Regulatory Flexibility Act, and thus is exempt from the provisions of that Act.

Paperwork Reduction Act

This rule contains no information collections or recordkeeping requirements under the Paperwork Reduction Act of 1995 (44 U.S.C. 3501 et seq.).

List of Subjects in 7 CFR Part 1

Administrative practice and procedure, Agriculture, Antitrust, Blind, Claims, Concessions, Cooperatives, Equal access to justice, Federal buildings and facilities, Freedom of Information, Lawyers, Privacy.

Accordingly, we are amending 7 CFR part 1 as follows:

PART 1—ADMINISTRATIVE REGULATIONS

1. The authority citation for part 1 continues to read as follows:

Authority: 5 U.S.C. 301, unless otherwise noted.

Subpart H—Rules of Practice Governing Formal Adjudicatory Proceedings Instituted by the Secretary Under Various Statutes

2. In § 1.131, paragraph (b) is amended as follows:

a. In paragraph (b)(4), by removing the word “and”.

b. By redesignating paragraph (b)(5) as paragraph (b)(6) and by adding a new paragraph (b)(5) to read as set forth below.

§ 1.131 Scope and applicability of this subpart.

* * * * *

(b) * * *

(5) Adjudicatory proceedings under the regulations promulgated under sections 901-905 of the Federal Agriculture Improvement and Reform Act of 1996 (7 U.S.C. 1901 note) pertaining to the commercial transportation of equines to slaughtering facilities (9 CFR part 88); and

* * * * *

Done in Washington, DC, this 8th day of August, 2005.
Mike Johanns,
Secretary of Agriculture.

[FR Doc. 05-16011 Filed 8-11-05; 8:45 am]

BILLING CODE 3410-34-M